DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Atlantic Sea Scallop Fishery Management Plan Data Collection.

OMB Control Number: 0648-0491.

Form Number(s): None.

Type of Request: Regular submission (revision and renewal of a current information collection).

Number of Respondents: 783.

Average Hours per Response: Trip declaration, powerdown notification, trip termination, compensation trip identification, daily catch reports and temporary individual fishing quota (IFQ) transfers, 2 minutes; prelanding reports and ownership cap forms, 5 minutes; broken trip adjustments and permanent IFQ transfers, 10 minutes; trip exchanges, 15 minutes; replacement/upgrade and confirmation of permit history forms, 3 hours; cost recovery payments, 2 hours; sector proposals, 300 hours; sector operation plans, 200 hours.

Burden Hours: 2,804.

Needs and Uses: This request is for a revision and renewal of a currently approved information collection.

National Marine Fisheries Service (NMFS) Northeast Region manages the Atlantic sea scallop (scallop) fishery of the Exclusive Economic Zone (EEZ) off the East Coast under the Atlantic Sea Scallop Fishery Management Plan (FMP). The regulations implementing the FMP are at 50 CFR part 648. This collection includes the following reporting requirements for scallop vessel owners, operators, and fishery participants: Vessel monitoring system (VMS) trip declarations for all scallop vessels, including powerdown declarations; notification of access area trip termination for limited access scallop vessels; submission of access area compensation trip identification; submission of broken trip adjustment and access area trip exchange forms; VMS purchase and installation for individuals that purchase a federally permitted scallop vessel; submission of ownership cap forms for individual fishing quota (IFQ) scallop vessels; submission of vessel replacement, upgrade and permit history applications for IFQ, Northern Gulf of Maine (NGOM), and Incidental Catch (IC) scallop vessels; submission of VMS pre-landing notification form by IFQ vessels; enrollment into the state waters exemption program; submission of requests for IFQ transfers; payment of cost recovery bills for IFQ vessels; sector proposals for IFQ vessels and industry participants; sector operations plans for approved sector proposals.

Affected Public: Business or other for-profit organizations.

Frequency: Daily, on occasion and annually.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: March 17, 2011.
Gwellnar Banks,
Management Analyst, Office of the Chief Information Officer.

[FR Doc. 2011-6647 Filed 3-21-11; 8:45 am]

BILLING CODE 3510-22-P